DEPARTMENT OF AGRICULTURE

Forest Service

Colville Resource Advisory Committee

AGENCY: Forest Service, USDA.

ACTION: Notice of meeting.

SUMMARY: The Colville Resource Advisory Council will meet on Thursday, February 28, 2002 at the Spokane Community College, Colville Campus Dominion Room at 985 S. Elm Street, Colville, Washington. The meeting will begin at 9 a.m. and conclude at 4 p.m.

Agenda items include: review, modify and approve minutes from January meeting; review, modify and approve RAC bylaws; review and evaluate sample project selection processes and choose a process for future use; review and discuss submitted projects and determine needs for further information or presentations; agenda for next meeting scheduled for March 21, 2002; RAC budget & expenses immediate needs for public communication; and Public Forum.

FOR FURTHER INFORMATION CONTACT: Direct questions regarding this meeting to designated federal official, Nora Rasure or Cynthia Reichelt, Public Affairs Officer, Colville National Forest, 765 S. Main, Colville, Washington 99114: (509) 684-7000.

Dated: February 7, 2002.
Nora B. Rasure,
Forest Supervisor.

[FR Doc. 02-3593 Filed 2-13-02; 8:45 am]

BILLING CODE 3410-11-M